DEPARTMENT OF THE INTERIOR

Bureau of Reclamation

Lake Berryessa Visitor Services Plan, Napa County, CA

AGENCY: Bureau of Reclamation, Interior.

ACTION: Notice for additional open house meeting on the Draft Environmental Impact Statement (DEIS).

SUMMARY: The Bureau of Reclamation will hold an additional open house on the DEIS for the Lake Berryessa Visitor Services Plan (VSP). The first open house was held on November 22, 2003. The public hearings will be held as originally planned on January 21, 2004. The notice of availability of the DEIS and notice of public workshop and notice of public hearings was published in the Federal Register on October 31, 2003 (68 FR 62097).

DATES: The additional open house will be held on Saturday, January 10, 2004 from 10 a.m. to 4 p.m. in Napa, CA.

The public hearings will be held on Wednesday, January 21, 2004 from 1 to 4 p.m. and 7 to 10 p.m.

ADDRESSES: The additional open house will be held at the Napa Valley Expo at the Reisling Hall, 575 3rd Street, Napa, CA.

The hearings will be held at the Solano County Fairgrounds, Exposition Hall, 900 Fairgrounds Drive, Vallejo, CA.

FOR FURTHER INFORMATION CONTACT: Mr. Stephen Rodgers at 707-966-2111 x106, fax 707-966-0409, or e-mail: srodgers@mp.usbr.gov.

Dated: December 12, 2003.
Frank Michny,
Regional Environmental Officer, Mid-Pacific Region.

[FR Doc. 03-31291 Filed 12-18-03; 8:45 am]

BILLING CODE 4310-MN-P